DEPARTMENT OF TRANSPORTATION

Federal Railroad Administration

[Docket No. FRA-2024-0011]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before July 29, 2024.

ADDRESSES: Written comments and recommendations for the proposed ICR should be submitted on regulations.gov to the docket, Docket No. FRA-2024-0011. All comments received will be posted without change to the docket, including any personal information provided. Please refer to the assigned OMB control number (2130-0571) in any correspondence submitted. FRA will summarize comments received in a subsequent 30-day notice and include them in its information collection submission to OMB.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Occupational Noise Exposure for Railroad Operating Employees.

OMB Control Number: 2130-0571.

Abstract: Title 49 CFR part 227 contains requirements for occupational noise exposure. FRA uses the collection of information to ensure that railroads covered by this rule establish and implement noise monitoring, hearing conservation, and audiometric testing programs to protect their employees against the harmful effects of excessive noise in the workplace.

Additionally, railroads must maintain testing and training records on noise and hearing conservation. Further, railroads must make exposure measurement records for specific locations available to regional or national labor representatives upon request.

In this 60-day notice, FRA has made minor adjustments to correct rounding from the previous submission, resulting in a decrease in burden of 6 hours. The estimated paperwork burden for this submission is 3,974 hours.

¹ The total respondent universe is taken from the 2022 railroad classification data. The total of 531 represents all Class I, II and III (751) less the small railroads such as tourist, steam, historic, and excursion (220).

² Throughout the tables in this document, the dollar equivalent cost is derived from the 2022 Surface Transportation Board Full Year Wage A & B data series using the appropriate employee group to calculate the average hourly rate that includes 75 percent overhead.

Type of Request: Extension without change (with changes in estimates) of a currently approved information collection.

Affected Public: Businesses (Railroads, railroads equipment manufacturers).

Form(s): N/A.

Respondent Universe: 531 railroads.

Frequency of Submission: On occasion.

Reporting Burden
CFR section | Respondent universe ¹ | Total annual responses | Average time per response | Total annual burden hours | Wage Rate ² | Total cost equivalent in U.S. dollars
|  | (A) | (B) | (C = A * B) | (E) | (D = C * E)
227.13—Waivers | 531 railroads | 0.30 petitions (1 petition over 3-year period | 1.00 hour | 0.30 hours | $85.93 | $25.78
227.103(a)-(f)—Noise monitoring program—development and implementation | 531 railroads | 5.00 programs | 30.00 hours | 150.00 | 123.41 | 18,511.50
—(g) Reporting of monitoring results—notification of employee of monitoring | 531 railroads | 5.00 lists | 0.50 hours | 2.50 | 85.93 | 214.83
227.107(a)—Hearing Conservation Program (HCP)—development of programs | 531 railroads | 3.00 HCPs | 31.00 hours | 93.00 | 123.41 | 11,477.13
—Revised hearing conservation programs (HCPs) | 531 railroads | 3.00 HCPs | 1.75 hours | 5.25 | 85.93 | 451.13
227.109(e)—Audiometric testing program—baseline audiograms—New and existing employees | 76,244 employees | 6,862.00 records of tests | 30 seconds | 56.95 | 85.93 | 4,894.71
—(f) Periodic audiograms includes retests | 76,244 employees | 25,415.00 records of tests | 30 seconds | 210.94 | 85.93 | 18,126.07
—(g)(1)-(2) Evaluation of audiograms | 76,244 employees | 2,330 ratings + 93 records of retests | 6 minutes + 30 seconds | 233.77 | 85.93 | 20,087.86
—(g)(3) Review of problem audiograms | 8,000 employees | 45.00 documents | 10.00 minutes | 7.52 | 85.93 | 646.19
—(h)(1) Follow-up procedures—notifications | 8,000 employees | 93.00 notices | 5.00 minutes | 7.72 | 85.93 | 663.38
—(h)(2)(i)-(ii) Fitting/training of employees: hearing protectors | 240 employees | 240.00 documented training sessions | 5.00 minutes | 19.92 | 85.93 | 1,711.73
—(h)(2)(iii) Referrals for clinical/otological exam | 240 employees | 20.00 referrals | 1.00 hour | 20.00 | 85.93 | 1,718.60
—(h)(2)(iv) Notification to employee of need for otological examination | 240 employees | 20.00 notices | 5.00 minutes | 1.66 | 85.93 | 142.64
—(h)(3) New audiometric interpretation | 240 employees | 20.00 notices | 5.00 minutes | 1.66 | 85.93 | 142.64
227.111—Audiometric test requirements | 1,000 mobile vans | 1,000.00 recalibration test records | 30 seconds | 8.30 | 85.93 | 713.22
227.117 (a)—Hearing protection attenuation—evaluation | 531 railroads | 50.00 evaluations | 0.50 hours | 25.00 | 85.93 | 2,148.25
—(d) Reevaluations of adequacy of hearing protection attenuation when employee noise exposure increases | 531 railroads | 10.00 re-evaluations | 0.50 hours | 5.00 | 85.93 | 429.65
227.119—Hearing Conservation Training Program—development | 531 railroads | 3.00 training program modifications | 1.00 hour | 3.00 | 85.93 | 257.79
—Employee HCP training | 531 railroads | 26,000.00 records of training | 2.00 minutes | 866.58 | 85.93 | 74,465.22
—Periodic training | 531 railroads | 6,862.00 records of training | 2.00 minutes | 228.71 | 85.93 | 19,653.05
227.121(a)(1)(i)-(ii)—Recordkeeping—availability of records upon request | 531 railroads | 30 requests + 30 responses | 10 minutes + 15 minutes | 12.60 | 85.93 | 1,082.72
—(a)(1)(iv) Availability of exposure measurement records to regional or national labor representatives upon request | 531 railroads | 150 requests + 150 responses | 21 minutes + 45 minutes | 165.00 | 85.93 | 14,178.45
—(a)(2)-(3) Electronic records—maintenance and transfer of records | 531 railroads | 10.00 records | 24.00 minutes | 4.00 | 85.93 | 343.72
—(c) Audiometric test records | 531 railroads | 26,000.00 records | 2.00 minutes | 866.58 | 85.93 | 74,465.22
—(d) Positions and person designated records | 531 railroads | 54,000.00 records | 45 seconds | 675.00 | 85.93 | 58,002.75
229.121(a)—Locomotive cab noise—performance standards for locomotives—records and certification | 3 equipment manufacturers | 610 records + 90 certifications | 5 minutes + 40 minutes | 110.93 | 85.93 | 9,532.21
—(b)(3) Maintenance of locomotives—Excessive noise reports | 514 railroads | 3,000 reports + 3,000 records | 1 minute + 1 minute | 100.00 | 85.93 | 8,593.00
—(b)(4) Recordkeeping—written or electronic records | 514 railroads | 3,750.00 records | 1.00 minutes | 62.63 | 85.93 | 5,381.80
—(b)(4)(iii) Internal auditable monitoring systems—records | 514 railroads | 22 systems + 2 systems | 36 mins + 8.25 hours | 29.70 | 85.93 | 2,552.12
Appendix H(IV)—Static noise test protocols—records for retest | 500 locomotives | 2.00 retest records | 5.00 minutes | 0.17 | 85.93 | 14.61
Total ³ | 531 railroads | 159,925 responses | N/A | 3,974 hours | N/A | 350,627

Total Estimated Annual Responses: 159,925.

³ Totals may not add up due to rounding.

Total Estimated Annual Burden: 3,974 hours.

Total Estimated Annual Burden Hour Dollar Cost Equivalent: $350,627.

FRA informs all interested parties that it may not conduct or sponsor, and a respondent is not required to respond to, a collection of information that does not display a currently valid OMB control number.

Authority: 44 U.S.C. 3501-3520.

Christopher S. Van Nostrand,
Deputy Chief Counsel.

[FR Doc. 2024-11536 Filed 5-24-24; 8:45 am]

BILLING CODE 4910-06-P